DEPARTMENT OF HOMELAND SECURITY

Coast Guard

[Docket No. USCG-2008-0333]

Delaware River and Bay Oil Spill Advisory Committee; Meetings

AGENCY: Coast Guard, DHS.

ACTION: Notice of advisory committee meetings.

SUMMARY: The Delaware River and Bay Oil Spill Advisory Committee (DRBOSAC) will meet in Philadelphia, Pennsylvania, to discuss and approve DRBOSAC's report on oil spill prevention and response strategies for the Delaware River and Bay. These meetings will be open to the public.

DATES: The Committee will meet on Thursday December 16, 2010 and possibly Friday December 17th, 2010 from 10 a.m. to 4 p.m. These meetings may close early if all business is finished. Written material, requests to make oral presentations, and requests to have a copy of your material distributed to each member of the committee should reach the Coast Guard on or before Friday December 10, 2010.

ADDRESSES: The Committee will meet at Coast Guard Sector Delaware Bay, 1 Washington Ave., Philadelphia, Pennsylvania 19147. Send written material and requests to make oral presentations to Gerald Conrad, Liaison to the Designated Federal Officer (DFO) of the DRBOSAC, at the address above. This notice and any documents identified in the SUPPLEMENTARY INFORMATION section as being available in the docket may be viewed online, at http://www.regulations.gov, using docket number USCG-2008-0333.

FOR FURTHER INFORMATION CONTACT: Gerald Conrad, Liaison to the DFO of the DRBOSAC, telephone 215-271-4824.

SUPPLEMENTARY INFORMATION: Notice of this meeting is given under the Federal Advisory Committee Act, 5 U.S.C. App. 2 (Pub. L. 92-463). The Coast Guard Authorization Act of 2010 (Pub. L. 111-281) extended the statutory authorization for the Committee until Dec 31, 2010.

Agenda of the Meetings

The agenda for the December 16 & 17, 2010 Committee meetings are as follows:

(1) Opening comments.

(2) Administrative announcements.

(3) Introductions and roll call.

(4) Presentations from the public.

(5) Debriefs from: Response, Prevention, Recovery/Mitigation subcommittees.

(6) Public comments.

(7) Committee's report recommendation(s), discussion and votes.

(8) Closing.

More information and details on the meetings will be available at the committee Web site, located at https://home&port.uscg.mil/drbosac, or on the Federal Docket Management System (FDMS) at http://www.Regulations.gov. To locate documents related to this Committee on FDMS, search http://www.Regulations.gov for the docket number USCG-2008-0333. Additional details may be added to the agenda up to December 10, 2010.

Procedural

These meetings are open to the public. All persons entering the building will have to present identification and may be subject to screening. Please note that the meetings may close early if all business is finished.

The public will be able to make oral presentations, for a length of time as decided by the Chair, when given the opportunity, as noted in the agenda. Members of the public wishing to make an oral presentation to the committee are encouraged to contact the Coast Guard at the contacts listed above no later than December 10, 2010. The public may file written statements with the committee; written material should reach the Coast Guard no later than December 10, 2010. If you would like a copy of your material distributed to each member of the committee, please submit 35 copies to the Liaison to the DFO no later than December 10, 2010, and indicate that the material is to be distributed to committee members at the December 16 and 17, 2010 meetings.

Please register your attendance with the Liaison to the DFO no later than December 10, 2010.

Information on Services for Individuals With Disabilities

For information on facilities or services for individuals with disabilities or to request special assistance at the meetings, contact the Liaison to the DFO as soon as possible.

Dated: November 23, 2010.
Joseph M. Re,
Captain, U.S. Coast Guard, Office of Performance Management (CG-0954).

[FR Doc. 2010-29938 Filed 11-26-10; 8:45 am]

BILLING CODE 9110-04-P